DEPARTMENT OF THE INTERIOR

Bureau of Land Management

[LLCOF02000 L51100000.GL0000 LVEMC1700600 18X]

Notice of Intent To Prepare an Environmental Impact Statement for the Proposed Competitive Mineral Materials Sale (COC-078119) at Parkdale, Fremont County, CO

AGENCY: Bureau of Land Management, Interior.

ACTION: Notice of intent.

SUMMARY: In compliance with the National Environmental Policy Act of 1969, as amended (NEPA), and the Federal Land Policy and Management Act of 1976, as amended, the Bureau of Land Management (BLM) Royal Gorge Field Office, Cañon City, Colorado, intends to prepare an Environmental Impact Statement (EIS) for the Proposed Competitive Mineral Materials Sale at Parkdale, Fremont County, Colorado. This notice announces the beginning of the scoping process to solicit public comments and identify issues for the EIS.

DATES: Comments on issues may be submitted in writing until August 30, 2019. The BLM will announce date(s) and location(s) of any scoping meetings at least 15 days in advance of the meeting through local media, newspapers, and the BLM National NEPA website. For comments to be considered in the Draft EIS, the BLM must receive them before the close of the 30-day scoping period. The BLM will provide additional opportunities for public participation upon publication of the Draft EIS.

ADDRESSES: You may submit comments related to the Competitive Mineral Materials Sale (COC-078119) at Parkdale, Fremont County, Colorado, by any of the following methods:

• BLM National NEPA website: https://eplanning.blm.gov/; search for NEPA Document Number BLM-CO-F020-2019-0013.

• Mail: BLM Royal Gorge Field Office, 3028 East Main Street, Cañon City, CO 81212.

Documents pertinent to this proposal may be examined at the Royal Gorge Field Office.

FOR FURTHER INFORMATION CONTACT: Stephanie Carter, Geologist; telephone: (719) 269-8551; address: 3028 East Main Street, Cañon City, CO 81212; email: sscarter@blm.gov. Contact Ms. Carter to have your name added to our mailing list. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: Martin Marietta Materials, Inc. has requested a contract from the BLM to mine 400-million net tons of aggregate reserves located on BLM-managed lands adjacent to their existing hard rock quarry northwest of Cañon City, Colorado. Mining activity would be conducted on up to approximately 700 acres of BLM-administered public land for up to 100 years with a maximum production rate of 4-million tons annually. The aggregate reserves consist of a granodiorite bedrock that would be mined utilizing blasting, crushing, and screening methods. The aggregate would be used in the production of asphalt and concrete, as well as for a source of railroad ballast. The current mine is the only rail-served aggregate mine in Colorado. The BLM mineral material reserves would sustain uninterrupted supplies of aggregate to meet future demands in southern Colorado and adjacent areas.

The purpose of the public scoping process is to determine relevant issues that may influence the scope of the environmental analysis for development of the EIS, including alternatives. At present, the BLM has identified the following preliminary issues: Potential effects to bighorn sheep, visual resources, air quality, surface and ground water quantity and quality, and socioeconomic conditions. The BLM will identify, analyze, and require mitigation, as appropriate, to address impacts to resources from the proposed action and alternatives.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Competitive Mineral Materials Sale (COC-078119) at Parkdale, Fremont County, Colorado, are invited to participate in the scoping process and, if eligible, may request or be requested by the BLM to participate in the development of the EIS as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jamie Connell,
Colorado State Director.

[FR Doc. 2019-16337 Filed 7-30-19; 8:45 am]

BILLING CODE 4310-JB-P